DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Mental Health First Aid Evaluation-NEW

The Substance Abuse and Mental Health Services Administration's (SAMHSA) Center for Mental Health Services (CMHS) is requesting approval from the Office of Management and Budget (OMB) for new data collection activities associated with its Mental Health First Aid (MHFA) program.

This information is needed to evaluate implementation of MHFA and Youth Mental Health First Aid in three distinct grant programs: Project Advancing Wellness and Resilience in Education (AWARE) State Education Agency (SEA) Cooperative Agreements, which provide funding to support MHFA and YMHFA training to state education agencies; Project AWARE Local Education Agency (LEA) Grants, which provide funding to school districts; and Project AWARE Community (C), a new funding opportunity in fiscal year 2015 that is intended to support MHFA and YMHFA training through a wide range of community organizations.

The MHFA/YMHFA evaluation will address both overarching and program-specific questions related to the implementation and effectiveness of widespread dissemination of mental health literacy programs through these three distinct funding mechanisms and increase SAMHSA's understanding of training, referral benefits, and issues in varied milieu (e.g., implementation climate, leadership). These evaluation questions are essential to address because, although MHFA/YMHFA has a track record and well-articulated theory of action, it is vital for SAMHSA to be able to identify factors that are expected to increase or decrease the extent MHFA/YMHFA is disseminated and implemented with quality.

This data collection is covered under the requirements of Public Law 103-62, the Government Performance and Results Act (GPRA) of 1993, Title 38, section 527, Evaluation and Data Collection, as well as 38 CFR 1.15, Standards for Program Evaluation.

SAMHSA is requesting clearance for four data collection instruments:

(1) MHFA/YMHFA Pre-Training Survey

(2) MHFA/YMHFA Post-Training Survey

(3) MHFA/YMHFA 3-Month and 6-Month Follow-Up Survey

(4) Qualitative protocol for interviews with site coordinators

The table below reflects the annualized hourly burden.

Instrument/Activity | Number of respondents | Responses per respondent | Total responses | Hours per response | Total burden hours
MHFA/YMHFA Pre-Training Survey | 22,800 | 1 | 22,800 | .33 | 7,524
MHFA/YMHFA Post-Training Survey | 22,800 | 1 | 22,800 | .25 | 5,700
MHFA/YMHFA 3-Month Follow-Up Survey | 19,380 | 1 | 19,380 | .17 | 3,294
MHFA/YMHFA 6-Month Follow-Up Survey | 17,100 | 1 | 17,100 | .17 | 2,907
Qualitative Interviews | 23 | 1 | 23 | .75 | 17.25
Total | 22,823 |  | 82,103 |  | 19,442

Written comments and recommendations concerning the proposed information collection should be sent by August 24, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-17411 Filed 7-22-16; 8:45 am]

BILLING CODE 4162-20-P